SECURITIES AND EXCHANGE COMMISSION

[Release No. 34-90817; File No. SR-NYSEArca-2020-46]

Self-Regulatory Organizations; NYSE Arca, Inc.; Notice of Withdrawal of a Proposed Rule Change To Amend NYSE Arca Rule 5.2-E(j)(6) Relating to Options-Linked Securities

December 29, 2020.

On June 10, 2020, NYSE Arca, Inc. (“Exchange” or “NYSE Arca”) filed with the Securities and Exchange Commission (“Commission”), pursuant to Section 19(b)(1) of the Securities Exchange Act of 1934 (“Act”) ¹ and Rule 19b-4 thereunder,² a proposed rule change to amend NYSE Arca Rule 5.2-E(j)(6) to accommodate Exchange listing and trading of Options-Linked Securities. The proposed rule change was published for comment in the Federal Register on June 22, 2020.³ On July 28, 2020, pursuant to Section 19(b)(2) of the Act,⁴ the Commission designated a longer period within which to approve the proposed rule change, disapprove the proposed rule change, or institute proceedings to determine whether to disapprove the proposed rule change.⁵ On September 16, 2020, the Commission instituted proceedings under Section 19(b)(2)(B) of the Act ⁶ to determine whether to approve or disapprove the proposed rule change.⁷ On December 7, 2020, the Commission designated a longer period within which to issue an order approving or disapproving the proposed rule change.⁸ The Commission received no comment letters on the proposed rule change. On December 29, 2020, the Exchange withdrew the proposed rule change (SR-NYSEArca-2020-46).

¹ 15 U.S.C. 78s(b)(1).

² 17 CFR 240.19b-4.

³ See Securities Exchange Act Release No. 89073 (June 16, 2020), 85 FR 37488.

⁴ 15 U.S.C. 78s(b)(2).

⁵ See Securities Exchange Act Release No. 89412, 85 FR 46744 (August 3, 2020).

⁶ 15 U.S.C. 78s(b)(2)(B).

⁷ See Securities Exchange Act Release No. 89898, 85 FR 59572 (September 22, 2020).

⁸ See Securities Exchange Act Release No. 90575, 85 FR 80206 (December 11, 2020). The Commission designated February 17, 2021, as the date by which the Commission shall either approve or disapprove the proposed rule change.

⁹ 17 CFR 200.30-3(a)(12).

For the Commission, by the Division of Trading and Markets, pursuant to delegated authority.⁹
J. Matthew DeLesDernier,
Assistant Secretary.

[FR Doc. 2020-29137 Filed 1-4-21; 8:45 am]

BILLING CODE 8011-01-P